NATIONAL CREDIT UNION ADMINISTRATION

Sunshine Act; Notice of Matter To Be Added to the Agenda for Consideration at an Agency Meeting

Time and Date: 10 a.m., Tuesday, February 10, 2009.

Place: Board Room, 7th Floor, Room 7047, 1775 Duke Street, Alexandria, VA 22314-3428.

Status: Closed.

Matters To Be Added: 2. Administrative Action under Section 207 of the Federal Credit Union Act. Closed pursuant to Exemptions (8) and (9)(A)(ii) and 9(B).

FOR FURTHER INFORMATION CONTACT: Mary Rupp, Secretary of the Board, Telephone: 703-518-6304.

Mary Rupp,
Board Secretary.

[FR Doc. E9-2917 Filed 2-6-09; 4:15 pm]

BILLING CODE 7535-01-P